INTERNATIONAL TRADE COMMISSION

Sunshine Act Meeting

[USITC SE-06-022]

Agency Holding the Meeting: United States International Trade Commission.

Time and Date: April 6, 2006 at 11 a.m.

Place: Room 101, 500 E Street, SW., Washington, DC 20436, Telephone: (202) 205-2000.

Status: Open to the public.

Matters to be Considered:

1. Agenda for future meetings: none.

2. Minutes.

3. Ratification List.

4. Inv. Nos. 731-TA-846-850 (Review) (Carbon and Alloy Seamless Standard, Line, and Pressure Pipe from the Czech Republic, Japan, Mexico, Romania, and South Africa)—briefing and vote. (The Commission is currently scheduled to transmit its determination and Commissioners' opinions to the Secretary of Commerce on or before April 26, 2006.)

5. Outstanding action jackets: None.

In accordance with Commission policy, subject matter listed above, not disposed of at the scheduled meeting, may be carried over to the agenda of the following meeting.

By order of the Commission.
Issued: March 29, 2006.
Marilyn R. Abbott,
Secretary to the Commission.

[FR Doc. 06-3214 Filed 3-30-06; 1:39 pm]

BILLING CODE 7020-02-P